DEPARTMENT OF COMMERCE

International Trade Administration

[A-823-805]

Silicomanganese From Ukraine: Final Results of Antidumping Duty Administrative Review; 2015-2016

AGENCY: Enforcement and Compliance, International Trade Administration, Department of Commerce.

SUMMARY: On May 9, 2017, the Department of Commerce (the Department) published the preliminary results of the administrative review of the antidumping duty order on silicomanganese from Ukraine. The period of review (POR) is August 1, 2015, through July 31, 2016. For the final results of this review, we continue to find, based on the application of adverse facts available, that subject merchandise has been sold in the United States at prices below normal value during the POR.

DATES: Applicable August 9, 2017.

FOR FURTHER INFORMATION CONTACT: Dmitry Vladimirov, AD/CVD Operations, Office I, Enforcement and Compliance, International Trade Administration, U.S. Department of Commerce, 1401 Constitution Avenue NW., Washington, DC 20230; telephone: (202) 482-0665.

SUPPLEMENTARY INFORMATION:

Background

On May 9, 2017, the Department published the Preliminary Results of the administrative review of the antidumping duty order on silicomanganese from Ukraine.¹ The administrative review covers two exporters of the subject merchandise, PJSC Zaporozhye Ferroalloy Plant (ZFP), and PJSC Nikopol Ferroalloy Plant (NFP). The Department gave interested parties an opportunity to comment on the Preliminary Results. We received no comments.

¹ See Silicomanganese From Ukraine: Preliminary Results of Antidumping Duty Administrative Review; 2015-2016, 82 FR 21521 (May 9, 2017) (Preliminary Results).

The Department conducted this review in accordance with section 751(a)(2) of the Tariff Act of 1930, as amended (the Act).

Scope of the Order

The merchandise covered by the antidumping duty order is silicomanganese. Silicomanganese, which is sometimes called ferrosilicon manganese, is a ferroalloy composed principally of manganese, silicon, and iron, and normally containing much smaller proportions of minor elements, such as carbon, phosphorous, and sulfur. Silicomanganese generally contains by weight not less than four percent iron, more than 30 percent manganese, more than eight percent silicon, and not more than three percent phosphorous. All compositions, forms and sizes of silicomanganese are included within the scope of this order, including silicomanganese slag, fines, and briquettes. Silicomanganese is used primarily in steel production as a source of both silicon and manganese. This order covers all silicomanganese, regardless of its tariff classification. Most silicomanganese is currently classifiable under subheading 7202.30.0000 of the Harmonized Tariff Schedule of the United States (HTSUS). Some silicomanganese may also currently be classifiable under HTSUS subheading 7202.99.8040. Although the HTSUS subheadings are provided for convenience and customs purposes, our written description of the scope of this order is dispositive.

Adverse Facts Available

We continue to find that the application of adverse facts available (AFA) to the mandatory respondents, ZPF and NFP, is warranted in accordance with sections 776(a) and (b) of the Act and 19 CFR 351.308, because these companies failed to provide requested information, as detailed in the Preliminary Decision Memorandum ² accompanying the Preliminary Results.

² See Memorandum, “Decision Memorandum for the Preliminary Results in the Administrative Review of the Antidumping Duty Order on Silicomanganese from Ukraine; 2015-2016,” dated May 3, 2017 (Preliminary Decision Memorandum).

Final Results of the Administrative Review

We determine that the following weighted-average dumping margins exist for the respondents for the period of August 1, 2015, through July 31, 2016:

Exporter/producer | Weighted- average dumping margin (percent)
PJSC Zaporozhye Ferroalloy Plant | 163.00
PJSC Nikopol Ferroalloy Plant | 163.00

Assessment

In accordance with 19 CFR 351.212, the Department will instruct U.S. Customs and Border Protection (CBP) to liquidate all entries of subject merchandise exported by ZFP and NFP during the POR at an ad valorem rate of 163.00 percent. We intend to issue instructions to CBP 15 days after publication of the final results of this review.

Cash Deposit Requirements

The following cash deposit requirements will be effective upon publication of the notice of final results of administrative review for all shipments of the subject merchandise entered, or withdrawn from warehouse, for consumption on or after the publication date of the final results of this administrative review, as provided by section 751(a)(2)(C) of the Act: (1) The cash deposit rates for subject merchandise exported by ZFP and NFP will be 163.00 percent, equal to the weighted-average dumping margins established in the final results of this administrative review; (2) for merchandise exported by producers or exporters not covered in this administrative review but covered in a prior segment of the proceeding, the cash deposit rate will continue to be the company-specific rate published for the most recently completed segment of this proceeding; (3) if the exporter is not a firm covered in this review, a prior review, or the original investigation, but the producer is, the cash deposit rate will be the rate established for the most recently completed segment of this proceeding for the producer of the subject merchandise; and (4) the cash deposit rate for all other manufacturers or exporters will continue to be 163.00 percent, the all-others rate established in the investigation.³

³ See Suspension Agreement on Silicomanganese From Ukraine; Termination of Suspension Agreement and Notice of Antidumping Duty Order, 66 FR 43838 (August 21, 2001) (clarifying that the “Ukraine-Wide Rate” of 163 percent applies to all producers and exporters of subject silicomanganese not specifically listed in Notice of Final Determination of Sales at Less Than Fair Value: Silicomanganese From Ukraine, 59 FR 62711 (December 6, 1994) (where an AFA rate of 163 percent was applied to ZFP and NFP, the mandatory respondents in the original investigation).

These cash deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a violation subject to sanction.

We are issuing and publishing these results of administrative review in accordance with sections 751(a)(1) and 777(i) of the Act and 19 CFR 351.221(b)(5).

Dated: August 3, 2017.
Carole Showers,
Executive Director, Office of Policy, performing the duties of Deputy Assistant Secretary for Enforcement and Compliance.

[FR Doc. 2017-16790 Filed 8-8-17; 8:45 am]

BILLING CODE 3510-DS-P